DEPARTMENT OF ENERGY

Federal Energy Regulatory Commission

Notice of Application for Proposed Land Exchange and Soliciting Comments, Motions To Intervene, and Protests

June 10, 2004.

Take notice that the following application has been filed with the Commission and is available for public inspection:

a. Application Type: Approval of a proposed exchange of project lands.

b. Docket No.: 2145-059.

c. Date Filed: May 17, 2004.

d. Applicant: Public Utility District No. 1 of Chelan County (District).

e. Name of Project: Rocky Reach Project.

f. Location: The project is located on the Columbia River, in Chelan County, Washington. The project utilizes Federal or tribal lands.

g. Filed Pursuant to: Federal Power Act, 16 U.S.C. 791(a), 825(r), and 799 and 801.

h. Applicant Contact: Keith Truscott, P.O. Box 1231, Wenatchee, WA 98807-1231, telephone number (509) 661-4831.

i. FERC Contact: Any questions on this notice should be addressed to Diane Murray, diane.murray@ferc.gov, or (202) 502-8838.

j. Deadline for filing comments and or motions: July 12, 2004.

All documents (original and eight copies) should be filed with Magalie R. Salas, Secretary, Federal Energy Regulatory Commission, 888 First Street, NE., Washington, DC 20426. Please include the docket number (P-2145-059) on any comments, protests, or motions filed. Comments, protests, or interventions may be filed electronically via the Internet in lieu of paper. See 18 CFR 385.2001(a)(1)(iii) and the instructions on the Commission's Web site at http://www.ferc.gov under the “e-Filing” link. The Commission strongly encourages e-filings.

k. Description of Proposal: This proposal includes the exchange of a 1.5-acre parcel of project land owned by the District and located adjacent to Stephen and Pamela Talbot's residence, approximately three miles north of the Rocky Reach Dam (District's Parcel B) for an equal-sized parcel of project land owned by the Talbots, located approximately 20 miles upstream near Stayman Flats (Talbot's Parcel A). The District's Parcel B has been leased to the Talbots since 1989. The conveyance of the District's Parcel B would be subject to a flowage easement and customary covenants and restrictions under the standard land use article, which would permit the District to use and protect the parcel for project purposes. Talbot's Parcel A, when conveyed, will remain vacant land and will be subject to the District's flowage easement for project purposes and no development will be permitted. Both parcels will remain inside the project boundary.

l. Locations of the Application: The filing is available for review at the Commission's Public Reference Room, at 888 First Street, NE., Room 2A, Washington, DC 20426, or may be viewed on the Commission's Web site at http://www.ferc.gov using the “eLibrary” link, select “General Search”, select “Date Range” and “Docket Number” and follow the instructions to access the document. For assistance, please call the Helpline at (866) 208-3676 or contact FERConlineSupport@ferc.gov. For TTY, contact (202) 502-8659.

m. Individuals desiring to be included on the Commission's mailing list should so indicate by writing to the Secretary of the Commission.

n. Comments, Protests, or Motions to Intervene: Anyone may submit comments, a protest, or a motion to intervene in accordance with the requirements of rules of practice and procedure, 18 CFR 385.210, 385.211, 385.214. In determining the appropriate action to take, the Commission will consider all protests or other comments filed, but only those who file a motion to intervene in accordance with the Commission's rules may become a party to the proceeding. Any comments, protests, or motions to intervene must be received on or before the specified comment date for the particular application.

o. Filing and Service of Responsive Documents: Any filings must bear in all capital letters the title “COMMENTS”, “PROTEST”, or “MOTION TO INTERVENE”, as applicable, and the Project Number of the particular application to which the filing refers. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

Linda Mitry,
Acting Secretary.

[FR Doc. E4-1360 Filed 6-17-04; 8:45 am]

BILLING CODE 6717-01-P